ENVIRONMENTAL PROTECTION AGENCY

[EPA-HQ-OPP-2009-0879; FRL-9801-01-OCSPP]

Environmental Modeling Public Meeting; Notice of Virtual Public Meeting

AGENCY: Environmental Protection Agency (EPA).

ACTION: Notice.

SUMMARY: EPA will hold a virtual Environmental Modeling Public Meeting (EMPM) on Tuesday, June 23, 2022, with participation by phone and webcast only. The EMPM provides a public forum for EPA and its stakeholders to discuss current issues related to modeling pesticide fate, transport, exposure, and ecotoxicity for pesticide risk assessments in a regulatory context. This Notice announces the meeting and provides information on its theme which is a focus on the Endangered Species Act and practical solutions to avoid, minimize or offset potential effects to Federally Listed endangered and threatened species and designated critical habitats from pesticides.

DATES: Meeting: This virtual meeting will be held on June 23, 2022, from 9:00 a.m. to approximately 4:30 p.m. EDT.

Requests to participate: Requests to attend the meeting must be submitted on or before June 16, 2022. Requests to present with an accompanying abstract must be submitted on or before May 26, 2022.

ADDRESSES: This is a virtual meeting. To register to attend and/or to present at this virtual meeting, please send an email to OPP_EMPM@epa.gov. You must register via email to receive the webcast meeting link and audio teleconference information for participation. Registrants will be added to the “empmlist” LYRIS list server (https://lists.epa.gov/read/all_forums/). Meeting updates and participation information will be distributed through “empmlist”.

FOR FURTHER INFORMATION CONTACT: The 2022 EMPM Co-chairs, William Gardner, telephone number: (202) 566-1642 and Patricia Engel, telephone number: (202) 566-1690; email address: OPP_EMPM@epa.gov.

SUPPLEMENTARY INFORMATION:

I. General Information

A. Does this action apply to me?

You may be potentially affected by this action if you are a pesticide registrant, a potential pesticide registrant, or a user of a pesticide under the Toxic Substances Control Act (TSCA), the Federal Food, Drug, and Cosmetic Act (FFDCA), or the Federal Insecticide, Fungicide, and Rodenticide Act (FIFRA). Since other entities may also be interested, the Agency has not attempted to describe all the specific entities that may be affected by this action. The following list of North American Industrial Classification System (NAICS) codes is not intended to be exhaustive, but rather provides a guide to help readers determine whether this document applies to them. Potentially affected entities may include:

• Agriculture, Forestry, Fishing and Hunting NAICS code 11.

• Utilities NAICS code 22.

• Professional, Scientific and Technical NAICS code 54.

B. How can I get copies of this document and other related information?

The docket for this action, identified by docket identification (ID) number EPA-HQ-OPP-2009-0879, is available at http://www.regulations.gov. It contains materials for all previous EMPMs. EPA will similarly include materials for this EMPM after the meeting.

Please note that due to the public health emergency, the Environmental Protection Agency Docket Center (EPA/DC) and Public Reading Room are now available in-person, by appointment only, at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744. Please review the visitor instructions and additional information about the docket available at http://www.epa.gov/dockets and https://www.epa.gov/dockets/epa-docket-center-and-reading-room-open-public-appointment-only. Our EPA/DC staff will also continue to provide customer service via email, phone, and webform.

II. Background

The purpose of the EMPM is for presentation and discussion of current issues related to modeling pesticide fate, transport, and exposure for risk assessment in a regulatory context.

III. Theme for the Meeting

The 2022 EMPM will provide a forum for presentations on the incorporation of analyses into environmental exposure and ecological risk assessments, meant to comply with the Endangered Species Act, with a focus on practical solutions to avoid, minimize or offset potential effects to Federally Listed endangered and threatened species and designated critical habitats. Potential topics: Approaches to avoid and minimize effects to listed species that inhabit pesticide use sites, label mitigations to avoid jeopardy and adverse modifications to listed species and their critical habitat; evaluation of mitigation effectiveness; and chemical specific case studies. EPA may also provide updates on ongoing topics.

(Authority: 7 U.S.C. 136 et seq.)

Dated: April 29, 2022.
Jan Matuszko,
Acting Director, Environmental Fate and Effects Division, Office of Pesticide Programs.

[FR Doc. 2022-09947 Filed 5-9-22; 8:45 am]

BILLING CODE 6560-50-P